DEPARTMENT OF ENERGY

Federal Energy Regulatory Commission

[Docket No. RD22-4-000]

Notice of Staff Attendance at the ReliabilityFirst Annual Meeting of the Members and the ReliabilityFirst Board of Directors Meeting

The Federal Energy Regulatory Commission hereby gives notice that members of the Commission staff may attend the following meetings:

The ReliabilityFirst Annual Meeting of the Members, The Ritz-Carlton, Pentagon City, 1250 South Hayes Street, Arlington, VA 22202, December 8, 2022 (9 a.m.-10:30 a.m. eastern time), and

The ReliabilityFirst Board of Directors Meeting, The Ritz-Carlton, Pentagon City, 1250 South Hayes Street, Arlington, VA 22202, December 8, 2022 (10:30 a.m.-1 p.m. eastern time).

Further information regarding these meetings may be found at: https://rfirst.org/about/Pages/Upcoming-Events.aspx.

The discussions at the meetings, which are open to the public, may address matters at issue in the following Commission proceeding:

Docket No. RD22-4-000—Registration of Inverter-Based Resources

For further information, please contact Jonathan First, 202-502-8529, or jonathan.first@ferc.gov.

Dated: December 2, 2022.
Kimberly D. Bose,
Secretary.

[FR Doc. 2022-26682 Filed 12-7-22; 8:45 am]

BILLING CODE 6717-01-P